DEPARTMENT OF DEFENSE

Department of the Air Force

U.S. Air Force Partially Patent License

AGENCY: Rome, New York, Air Force Research Laboratory Information Directorate, Department of the Air Force, DOD.

ACTION: Notice of intent to issue a partially exclusive patent license.

SUMMARY: Pursuant to the provisions of part 404 of Title 37, Code of Federal Regulations, which implements Public Law 96-517, as amended, the Department of the Air Force announces its intention to grant Sky Tube Live, LLC, a corporation of New York, having a place of business at 1855 West Road, Oneida, New York 13421 a partially exclusive license in any right, title and interest the United States Air Force has in: U.S. Patent No. 8,732,100, issued on May 20th, 2014 entitled “Method and Apparatus for Event Detection Permitting Per Event Adjustment of False Alarm Rate.”

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams Jr.,
Civ, Acting Air Force Federal Register Liaison Officer.

[FR Doc. 2015-17582 Filed 7-16-15; 8:45 am]

BILLING CODE 5001-10-P